SMALL BUSINESS ADMINISTRATION

[Disaster Declaration #10796]

Missouri Disaster #MO-00009; Declaration of Economic Injury

AGENCY: U.S. Small Business Administration.

ACTION: Amendment 1.

SUMMARY: This is an amendment of an Economic Injury Disaster Loan (EIDL) declaration for the State of Missouri, dated 03/13/07.

Incident: Severe Winter Storms.

Incident Period: 11/30/2006 through 12/02/2006.

Effective Date: 03/13/07.

EIDL Loan Application Deadline Date: 11/01/2007.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of an Economic Injury declaration for the State of Missouri dated 02/01/2007, is hereby amended to include the following areas as adversely affected by the disaster.

Primary Counties: St. Charles.

Contiguous Counties:

Illinois: Calhoun, Jersey, Madison.

Missouri: Franklin, Lincoln, St. Louis, Warren.

All other information in the original declaration remains unchanged.

(Catalog of Federal Domestic Assistance Number 59002.)

Dated: March 13, 2007.
Steven C. Preston,
Administrator.

[FR Doc. E7-5080 Filed 3-20-07; 8:45 am]

BILLING CODE 8025-01-P